Title 3—

The President

Proclamation 8056 of September 22, 2006

Family Day, 2006

By The President Of The United States of America

A Proclamation

Families instill values, shape character, and are the foundation of a hopeful society. On Family Day, we celebrate the rich traditions of family life and emphasize the importance of stable and loving relationships between children and parents.

Families are a source of inspiration and strength, and they provide hope and solace in the face of adversity. Children especially benefit from the bonds of family. During critical times in children's lives, family members encourage them to aim high and achieve their dreams, herald their successes, and promote positive behavior. Through their guidance and support, family members prepare young people for the challenges and opportunities ahead.

Parents, grandparents, aunts, uncles, and other caregivers are the first line of defense in helping young people avoid the dangers and temptations they face each day. By being attentive to children's activities and choices, families can help young people grow into successful adults.

My Administration remains committed to strengthening American families. We are working to protect the institution of marriage, promote responsible fatherhood, encourage parents to be involved in the education of their children, and provide every child with the opportunity to learn. By helping America's families thrive, we can build a brighter future for our country and give our young people the foundation they need to make good choices and build lives of purpose.

NOW, THEREFORE, I, GEORGE W. BUSH, President of the United States of America, by virtue of the authority vested in me by the Constitution and laws of the United States, do hereby proclaim September 25, 2006, as Family Day. I call on the people of the United States to observe this day by reflecting on the blessings of family and participating in family activities that strengthen relationships between children and parents.

IN WITNESS WHEREOF, I have hereunto set my hand this twenty-second day of September, in the year of our Lord two thousand six, and of the Independence of the United States of America the two hundred and thirty-first.

[FR Doc. 06-8351

Filed 9-26-06; 8:45 am]

Billing code 3195-01-P